DEPARTMENT OF HOMELAND SECURITY

Coast Guard

33 CFR Parts 151, 155, 156, and 157

46 CFR Part 197

[Docket Number USCG-2010-0194]

RIN 1625-AB57

MARPOL Annex I Amendments; Extension of Comment Period

AGENCY: Coast Guard, DHS.

ACTION: Extension of comment period.

SUMMARY: The Coast Guard is extending the comment period for the notice of proposed rulemaking (NPRM) entitled “MARPOL Annex I Amendments,” published on April 9, 2012, for 60 days. We have decided to extend the comment period at the request of industry because we omitted from the docket the accompanying Regulatory Analysis, which informs the proposal.

DATES: Comments and related material must be submitted to the docket by September 7, 2012.

ADDRESSES: You may submit comments identified by docket number using any one of the following methods:

(1) Federal eRulemaking Portal: http://www.regulations.gov.

(2) Fax: 202-493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is 202-366-9329.

See the “Public Participation and Request for Comments” portion of the SUPPLEMENTARY INFORMATION section below for further instructions on submitting comments. To avoid duplication, please use only one of these three methods.

FOR FURTHER INFORMATION CONTACT: If you have questions on this rule, call or email Scott E. Hartley, U.S. Coast Guard Office of Operating and Environmental Standards, (CG-OES-2); telephone 202-372-1437, email Scott.E.Hartley@uscg.mil. If you have questions on viewing or submitting material to the docket, call Renee V. Wright, Program Manager, Docket Operations, telephone 202-366-9826.

SUPPLEMENTARY INFORMATION:

A. Public Participation and Request for Comments

We encourage you to participate in this rulemaking by submitting comments and related materials. All comments received will be posted without change to http://www.regulations.gov and will include any personal information you have provided.

1. Submitting Comments

If you submit a comment, please include the docket number for this rulemaking, indicate the specific section of this document to which each comment applies, and provide a reason for each suggestion or recommendation. You may submit your comments and material online at http://www.regulations.gov, or by fax, mail, or hand delivery, but please use only one of these means. If you submit a comment online, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, type the docket number (USCG-2010-0194) in the “SEARCH” box and click “SEARCH.” Click on “Submit a Comment” on the line associated with this rulemaking.

If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number (USCG-2010-0194) in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

B. Regulatory History and Information

The Coast Guard published an NPRM entitled “MARPOL Annex I Amendments” on April 9, 2012 (77 FR 21360) proposing to align Coast Guard regulations with recent amendments to Annex I of the International Convention for the Prevention of Pollution from Ships, 1973, as modified by the Protocol of 1978. The NPRM also proposed to incorporate some elements from the International Convention for the Safety of Life at Sea into our regulations. All comments on this NPRM were originally due by July 9, 2012.

C. Background and Purpose

On June 14, 2012, we received a letter from the American Petroleum Institute requesting a 60-day extension of the comment period. It noted that the Regulatory Analysis had not been posted to the docket, and that examination of that document was important in analyzing the proposal. We found that the Regulatory Analysis was in fact not available in the docket as stated in the NPRM, and promptly made it available and ensured it was properly posted to the docket. However, as we wish to give commenters the full amount of time originally provided to review our analysis, we are reopening the comment period to allow commenters the full period to comment on the Regulatory Analysis.

D. Authority

This notice is issued under authority of 5 U.S.C. 552(a).

Dated: July 17, 2012.
F.J. Sturm,
Acting Director of Commercial Regulations, and Standards, U.S. Coast Guard.

[FR Doc. 2012-18226 Filed 7-25-12; 8:45 am]

BILLING CODE 9110-04-P